FEDERAL EMERGENCY MANAGEMENT AGENCY

44 CFR Part 65

Changes in Flood Elevation Determinations

AGENCY: Federal Emergency Management Agency (FEMA).

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the following table and revise the Flood Insurance Rate Maps in effect for the listed communities prior to this date.

ADDRESSES: The modified BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA makes the final determinations listed below of the modified BFEs for each community listed. These modified elevations have been published in newspapers of local circulation and ninety (90) days have elapsed since that publication. The Acting Administrator, Federal Insurance and Mitigation Administration has resolved any appeals resulting from this notification.

The modified Base Flood Elevations are not listed for each community in this notice. However, this rule includes the address of the Chief Executive Officer of the community where the modified BFE determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified Base Flood Elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

These modified elevations are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR Part 10, Environmental Consideration. No environmental impact assessment has been prepared.

Regulatory Flexibility Act

The Acting Administrator, Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

1.The tables published under the authority of § 65.4 are amended as follows:

State and county | Location and case No. | Dates and name of newspaper where notice was published | Chief executive officer of community | Effective date of modification | Community No.
Arizona:
Maricopa (FEMA Docket No.: B-7422) | City of Avondale (01-09-018P) | August 10, 2001; August 17, 2001; Arizona Republic | The Honorable Ronald J. Drake, Mayor, City of Avondale, 525 North Central Avenue Avondale, Arizona 85323 | July 24, 2001 | 040038
Maricopa (FEMA Docket No.: B-7422) | City of Avondale (01-09-497P) | September 12, 2001; September 19, 2001; Arizona Republic | The Honorable Ronald J. Drake, Mayor, City of Avondale, 525 North Central Avenue, Avondale, Arizona 85323 | August 23, 2001 | 040038
Maricopa (FEMA Docket No.: B-7422) | City of Goodyear (01-09-497P) | September 12, 2001; September 19, 2001; Arizona Republic | The Honorable Bill Arnold, Mayor, City of Goodyear, 119 North Litchfield Road, Goodyear, Arizona 85338 | August 23, 2001 | 040046
Maricopa (FEMA Docket No.: B-7422) | City of Goodyear (01-09-124P) | March 14, 2001; March 21, 2001; West Valley View | The Honorable Bill Arnold, Mayor, City of Goodyear, 119 North Litchfield Road, Goodyear, Arizona 85338 | February 27, 2001 | 040046
Maricopa (FEMA Docket No.: B-7422) | City of Scottsdale (01-09-632P) | September 19, 2001; September 26, 2001; Arizona Republic | The Honorable Mary Manross, Mayor, City of Scottsdale, 3939 North Drinkwater Boulevard, Scottsdale, Arizona 85251 | August 31, 2001 | 045012
Pima (FEMA Docket No.: B-7422) | Unincorporated Areas (01-09-430P) | August 23, 2001; August 30, 2001; Arizona Daily Star and Tucson Citizen | The Honorable Raul Grijalva, Chairman, Pima County Board of Supervisors, 130 West Congress, 11th Floor, Tucson, Arizona 85701 | August 7, 2001 | 040073
California:
Marin (FEMA Docket No.: B-7422) | City of Novato (01-09-674P) | August 8, 2001; August 15, 2001; Novato Advance | The Honorable James W. Henderson, Mayor, City of Novato, 900 Sherman Avenue, Novato, California 94945 | July 18, 2001 | 060178
San Diego (FEMA Docket No.: B-7419) | City of Oceanside (00-09-332P) | June 15, 2001; June 22, 2001; North County Times | The Honorable Terry Johnson, Mayor, City of Oceanside, 300 North Coast Highway, Oceanside, California 92054 | May 31, 2001 | 060294
San Diego (FEMA Docket No.: B-7422) | San City of Poway (00-09-080P) | August 9, 2001; August 16, 2001; Poway News Chieftain | The Honorable Mickey Cafagna, Mayor, City of Poway, 13325 Civic Center Drive, Poway, California 92064 | July 25, 2001 | 060702
Sonoma (FEMA Docket No.: B-7419) | City of Cloverdale (01-09-122P) | June 13, 2001; June 20, 2001; Cloverdale Reveille | The Honorable Robert Jehn, Mayor, City of Cloverdale, City Hall, P.O. Box 217, Cloverdale, California 95425-0217 | May 23, 2001 | 060376
Shasta (FEMA Docket No.: B-7419) | City of Redding (01-09-218P) | July 13, 2001; July 20, 2001; Redding Record Searchlight | The Honorable Dave McGeorge, Mayor, City of Redding, 777 Cypress Avenue, Redding, California 96001 | October 18, 2001 | 060360
Colorado:
Douglas (FEMA Docket No.: B-7419) | Town of Parker (01-08-180P) | July 11, 2001; July 18, 2001; Douglas County News | The Honorable Gary Lasater, Mayor, Town of Parker, 20120 East Main Street, Parker, Colorado 80138 | June 22, 2001 | 080310
Douglas (FEMA Docket No.: B-7419) | Unincorporated Areas (01-08-180P) | July 11, 2001; July 18, 2001; Douglas County News | The Honorable Melanie Worley, Chairperson, Douglas County, Board of Commissioners, 100 Third Street, Castle Rock, Colorado 80104 | June 22, 2001 | 080049
Jefferson (FEMA Docket No.: B-7422) | City of Arvada (01-08-059P) | August 30, 2001; September 6, 2001; Arvada Sentinel | The Honorable Ken Fellman, Mayor, City of Arvada, City Hall, 8101 Ralston Road, Arvada, Colorado 80002 | December 5, 2001 | 085072
Jefferson (FEMA Docket No.: B-7422) | City of Lakewood (00-08-331P) | August 9, 2001; August 16, 2001: Lakewood Sentinel | The Honorable Steve Burkholder, Mayor, City of Lakewood, 480 South Allison Parkway, Lakewood, Colorado 80226-3127 | July 25, 2001 | 085075
Jefferson (FEMA Docket No.: B-7422) | City of Westminster (99-08-419P) | September 27, 2001; October 4, 2001; Westminster Window | The Honorable Nancy M. Heil, Mayor, City of Westminster, 4800 West 92nd Avenue, Westminster, CO 80031 | September 20, 2001 | 080008
Larimer (FEMA Docket No.: B-7422) | City of Fort Collins (00-08-365P) | June 8, 2001; June 15, 2001: Fort Collins Coloradoan | The Honorable Ray Martinez, Mayor, City of Fort Collins, P.O. Box 580, Fort Collins, Colorado 80522-0580 | August 23, 2001 | 080102
Kansas:
Butler (FEMA Docket No.: B-7419) | City of Andover (00-07-552P) | July 5, 2001; July 12, 2001; Anover Journal Advocate | The Honorable Dennis L. Bush, Mayor, City of Andover, P.O. Box 295, Andover, Kansas 67002-0295 | June 19, 2001 | 200383
Nevada:
Clark (FEMA Docket No.: B-7419) | City of Mesquite (01-09-170P) | May 24, 2001; May 31, 2001: Las Vegas Review-Journal | The Honorable Charles Home, Mayor, City of Mesquite, 10 East Mesquite Boulevard, Mesquite, Nevada 89027 | August 29, 2001 | 320035
Clark (FEMA Docket No.: B-7422) | City of Mesquite (01-09-997P) | September 19, 2001; September 26, 2001; Las Vegas Review-Journal | The Honorable Charles Home, Mayor, City of Mesquite, 10 East Mesquite Boulevard, Mesquite, Nevada 89027 | September 10, 2001 | 320035
Clark (FEMA Docket No.: B-7419) | Unincorporated Areas (00-09-828P) | June 15, 2001; June 22, 2001; Las Vegas Review-Journal | The Honorable Dario Herrera, Chairman, Clark County Board of Commissioners, 500 Grand Central Parkway, Las Vegas, Nevada 89155 | September 20, 2001 | 320003
Douglas (FEMA Docket No.: B-7422) | Unincorporated Areas (01-09-231P) | September 12, 2001; September 19, 2001; Record Couier | Mr. Daniel C. Holler, County Manger, Douglas County, P.O. Box 218, Minden, Nevada 89423-0218 | August 16, 2001 | 320008
North Carolina: Wake (FEMA Docket No.: B-7419) | City of Raleigh (01-04-061P) | June 7, 2001; June 14, 2001; News and Observer | The Honorable Paul Coble, Mayor, City of Raleigh, City Hall, P.O. Box 590, Raleigh, North Carolina 27602 | May 30, 2001 | 370243
Oklahoma:
Oklahoma (FEMA Docket No.: B-7419) | City of Oklahoma City (00-06-879P) | July 6, 2001; July 13, 2001: Daily Oklahoman | The Honorable Kirk Humphreys, Mayor, City of Oklahoma City, 200 North Walker, Suite 302, Oklahoma City, Oklahoma 73102 | June 20, 2001 | 405378
Oklahoma (FEMA Docket No.: B-7412) | City of Oklahoma City (01-06-608P) | February 16, 2001; February 23, 2001; Daily Oklahoma | The Honorable Kirk Humphreys, Mayor, City of Oklahoma City, 200 North Walker, Suite 302, Oklahoma City, Oklahoma 73102 | May 24, 2001 | 405378
Oregon:
Multnomah (FEMA Docket No.: B-7422) | City of Milwaukie (01-10-191P) | September 13, 2001; September 20, 2001; The Oregonian | The Honorable Carolyn Tomei, Mayor, City of Milwaukie, 10722 Southeast Main Street, Milwaukie, Oregon 97222 | December 19, 2001 | 410019
Multnomah (FEMA Docket No.: B-7422) | City of Portland (01-10-191P) | September 13, 2001; September 20, 2001; The Oregonian | The Honorable Vera Katz, Mayor, City of Portland, 1221 Southwest Fourth Avenue, Suite 340, Portland, Oregon 97204 | December 19, 2001 | 410183
Multnomah (FEMA Docket No.: B-7422) | Unincorporated Areas (01-10-191P) | September 13, 2001; September 20, 2001; The Oregonian | The Honorable Diane Linn, Chairperson, Multnomah County Board of Commissioners, 501 Southeast Hawthorne Boulevard, Suite 600, Portland, Oregon 97214 | December 19, 2001 | 410179
South Dakota: Union (FEMA Docket No.: B-7422) | Unincorporated Areas (99-08-326P) | January 18, 2001; January 25, 2001; Leader Courier | The Honorable Roger Boldenow, Chairman, Union County Board of Commissioners, P.O. Box 519, Elk Point, South Dakota 57025-0519 | December 28, 2000 | 460242
Texas:
Bexar (FEMA Docket No.: B-7422) | City of San Antonio (01-06-1953X) | September 27, 2001; October 4, 2001; San Antonio Express News | The Honorable Edward D. Garza, Mayor, City of San Antonio, P.O. Box 839966, San Antonio, Texas 78283-3966 | January 2, 2002 | 480045
Collin (FEMA Docket No.: B-7419) | City of Plano (01-06-359P) | July 13, 2001; July 20, 2001; Plano Star Courier | The Honorable Jeran Akers, Mayor, City of Plano, P.O. Box 860358, Plano, Texas 75086-0358 | June 20, 2001 | 480140
Dallas (FEMA Docket No.: B-7422) | City of Carrollton (00-06-1211P) (00-06-1214P) (00-06-1216P) | February 16, 2001; February 23, 2001; Northwest Morning News (Formerly Metrocrest News) | The Honorable Mark Stokes, Mayor, City of Carrollton, P.O. Box 110535, Carrollton, TX 75011-0535 | May 24, 2001 | 480167
Lubbock (FEMA Docket No.: B-7422) | City of Lubbock (00-06-1788P) | September 22, 2000; September 29, 2000 Lubbock Avalanche Journal | The Honorable Windy Sitton, Mayor, City of Lubbock, P.O. Box 2000, Lubbock, TX 79457-2000 | December 28, 2000 | 480452
Lubbock (FEMA Docket No.: B-7422) | City of Wolfforth (01-06-1799P) | September 27, 2001; Octiber 4, 2001; Lubbock Avalanche Journal | The Honorable Sylvia Preston, Mayor, City of Wolfforth, 382 East Highway 62, Wolfforth, Texas 79382 | September 5, 2001 | 480918
Utah:
Washington (FEMA Docket No.: B-7422) | City of Santa Clara (99-08-278P) | August 10, 2001; August 17, 2001; The Spectrum | The Honorable Fred Rowley, Mayor, City of Santa Clara, 2721 Santa Clara Drive, P.O. Box 699, Santa Clara, Utah 84765 | November 15, 2001 | 490178
Washington (FEMA Docket No.: B-7422) | City of St. George (99-08-278P) | August 10, 2001; August 17, 2001; The Spectrum | The Honorable Daniel D.McArthur, Mayor, City of St. George, 175 East 200 North, St. George, Utah 84770 | November 15, 2001 | 490177
Washington: Skamania (FEMA Docket No.: B-7422) | City of North Bonneville (01-10-488P) | September 19, 2001; September 26, 2001; Skamania County Pioneer | The Honorable John W. Kirk, Mayor, City of North Bonneville, P.O. Box 7, North Bonneville, Washington 98639 | September 13, 2001 | 530256

(Catalog of Federal Domestic Assistance No. 83.100, “Flood Insurance.”)
Dated: January 29, 2002.
Robert F. Shea,
Acting Administrator, Federal Insurance and Mitigation Administration.

[FR Doc. 02-2667 Filed 2-4-02; 8:45 am]

BILLING CODE 6718-04-P